DEPARTMENT OF ENERGY

Federal Energy Regulatory Commission

[Project No. 2494]

Puget Sound Energy, Inc., White River Project, Washington; Notice

May 30, 2000.

The following Commission staff are assigned to facilitate the preparation of an offer of settlement in these licensing proceedings that may be presented to the Commission.

Office of General Counsel

Keith Brooks (202) 208-1229.

Merrill Hathaway (202) 208-0825.

Office of Energy Projects

Bob Easton (202) 219-2782.

The staff listed above are separated from the advisory staff in these proceedings and will not participate as advisory staff in these proceedings.

Linwood A. Watson, Jr.,
Acting Secretary.

[FR Doc. 00-13918 Filed 6-2-00; 8:45 am]

BILLING CODE 6717-01-M